ENVIRONMENTAL PROTECTION AGENCY

[FRL-6562-8]

Agency Information Collection Activities: Continuing Collection; Comment Request; Quality Assurance Specification and Requirements

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Quality Assurance Specification and Requirements, ICR Number 0866, OMB No. 2080-0033, current expiration date 08/31/2000. Before submitting the ICR to OMB for review and approval, EPA is soliciting comments on specific aspects of the proposed information collection as described below.

DATES: Comments must be submitted on or before May 22, 2000.

ADDRESSES: Quality Staff (2811R), U.S. EPA, Washington, DC 20460. Comments will be accepted electronically at quality@epa.gov. The ICR may be obtained without charge by contacting the person listed below or by electronically downloading it from the following Internet site: http://es.epa.gov/ncerqa/qa/index.html.

FOR FURTHER INFORMATION CONTACT: Nancy Wentworth, Director, Quality Staff; 202-564-6830, Facsimile Number 202-565-2441; quality@epa.gov.

SUPPLEMENTARY INFORMATION:

Affected entities: Entities potentially affected by this action are those which apply for Federal financial assistance from EPA for proposed projects that involve environmentally-related measurements or data generation.

Title: ICR Number 0866, Quality Assurance Specification and Requirements, OMB Control No. 2080-0033, expiring 8/31/2000.

Abstract: This ICR covers the quality assurance (QA) paperwork burden that appears at 40 CFR 30.54, 40 CFR 31.45, and 40 CFR 35.260 and 35.6055. (These references may also be obtained at the Internet site listed above.) These are subsections from 40 CFR part 30—Grants and Agreements with Institutions of Higher Education, Hospitals, and Other Non-Profit Organizations, 40 CFR part 31—Uniform Administrative Requirements for Grants and Cooperative Agreements to State and Local Governments, and 40 CFR part 35—State and Local Assistance. The information collection activity involves the development and implementation of quality assurance practices consisting of policies, procedures, specifications, standards, and documentation sufficient to produce data of quality adequate to meet project objectives and to minimize loss of data due to out-of-control conditions or malfunctions. Specifically, this refers to the preparation of QA management and project plans. The quality system of the recipient of 40 CFR part 30 assistance must comply with the requirements of ANSI/ASQC E4, “Specifications and Guidelines for Quality Systems for Environmental Data Collection and Environmental Technology Programs.” A clarifying statement for all organizations receiving EPA financial assistance under 40 CFR part 31 and 40 CFR part 35 has been issued by the Office of Grants and Debarment. This clarifying statement defines Agency-wide criteria for meeting the requirements under the applicable CFRs and is consistent with Agency policy since 1988. It cites the ANSI/ASQC E4 as a national consensus standard that applies to all recipients. (This statement is also accessible through the Internet site listed above.) All QA submissions are reviewed and approved by an EPA certified project officer and/or a designated quality assurance officer.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The currently approved ICR estimated the burden for annual reporting and recordkeeping to be 85 hours each for 567 state and local respondents applying for assistance, and 70 hours each for 708 principal investigators who solicit assistance. The Agency burden for review of QA plans and preparation assistance to respondents was estimated at 17 hours each for the estimated 1,275 awards. This estimate included the time needed to review instructions, search existing data sources, gather and maintain the data needed, and complete and review the collection of information.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 14, 2000.
Margaret N. Schneider,
Deputy Assistant Administrator, Office of Environmental Information.

[FR Doc. 00-6974 Filed 3-20-00; 8:45 am]

BILLING CODE 6560-50-P